NATIONAL ARCHIVES AND RECORDS ADMINISTRATION

Information Security Oversight Office

Notice of the Availability of the Public Interest Declassification Board (PIDB) By-Laws

AGENCY: National Archives and Records Administration.

ACTION: Notice of the availability of the Public Interest Declassification Board (PIDB) By-Laws.

SUMMARY: The Information Security Oversight Office (ISOO) of the National Archives and Records Administration (NARA) announces the availability of the Public Interest Declassification Board (PIDB) By-Laws. As authorized by Public Law 106-567, and amended by Public Law 108-458, the PIDB is an advisory committee established by Congress and the President to promote the fullest possible public access to a thorough, accurate, and reliable documentary record of significant U.S. national security decisions and activities. The Director of ISOO serves as the PIDB Executive Secretary and the ISOO staff provides staff support for PIDB. Information about the PIDB and the by-laws are available on the PIDB Web site at http://www.archives.gov/declassification/pidb/, or you may request a paper copy.

FOR FURTHER INFORMATION CONTACT: To request a paper copy or if you have any questions, please contact Lee Morrison, ISOO, at (202) 357-5039 or send an e-mail to pidb@nara.gov.

Dated: June 18, 2007
William J. Bosanko,
Associate Director, Information Security Oversight Office.

[FR Doc. E7-12247 Filed 6-22-07; 8:45 am]

BILLING CODE 7515-01-P